DEPARTMENT OF COMMERCE

Foreign-Trade Zones Board

[Docket 69-2008]

Foreign-Trade Zone 149—Port Freeport, TX; Application for Expansion; Amendment of Application

A request has been submitted to the Foreign-Trade Zones Board (the Board) by Port Freeport, grantee of FTZ 149, to amend its application to expand FTZ 149 to include an additional site in Fort Bend County, Texas (Proposed Site 11).

Port Freeport is now requesting the inclusion of an additional site as follows: Proposed Site 12 (636 acres)—KCS/CenterPoint Intermodal Center, located on U.S. Route 59 at West Tavener Road, between Beasley and Kendleton in Fort Bend County.

Public comment is invited from interested parties. Submissions (original and 3 copies) shall be addressed to the Board's Executive Secretary at: Foreign-Trade Zones Board, U.S. Department of Commerce, Room 2111, 1401 Constitution Ave., NW., Washington, DC 20230.

The closing period for their receipt is September 21, 2009. Rebuttal comments in response to material submitted during the foregoing period may be submitted during the subsequent 15-day period (to October 5, 2009).

For further information, contact Elizabeth Whiteman at Elizabeth_Whiteman@ita.doc.gov or (202) 482-0473.

Andrew McGilvray,
Executive Secretary.

[FR Doc. E9-20034 Filed 8-19-09; 8:45 am]

BILLING CODE P